DEPARTMENT OF DEFENSE

Defense Acquisition Regulations System

48 CFR Parts 203, 234, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to provide needed editorial changes.

DATES: Effective April 28, 2014.

FOR FURTHER INFORMATION CONTACT: Mr. Manuel Quinones, Defense Acquisition Regulations System, OUSD(AT&L)DPAP(DARS), Room 3B855, 3060 Defense Pentagon, Washington, DC 20301-3060. Telephone 571-372-6088; facsimile 571-372-6094.

SUPPLEMENTARY INFORMATION:

This final rule amends the DFARS as follows:

1. Corrects a cross reference in 203.903(1).

2. Corrects a typographical error in 234.004(2)(ii)(A)(1) and (2).

3. Corrects 252.232-7013 to revise the clause fill-in instructions.

List of Subjects in 48 CFR Parts 203, 234, and 252

Government procurement.

Manuel Quinones,
Editor, Defense Acquisition Regulations System.

Therefore, 48 CFR parts 203, 234, and 252 are amended as follows:

1. The authority citations for 48 CFR parts 203 and 252 continue to read as follows:

Authority: 41 U.S.C. 1303 and 48 CFR chapter 1.

PART 203—IMPROPER BUSINESS PRACTICES AND PERSONAL CONFLICTS OF INTEREST

203.903 [Amended]

2. Section 203.903 paragraph (1) is amended by removing “paragraph (2)” and adding “paragraph (3)” in its place.

PART 234—MAJOR SYSTEM ACQUISITION

3. The authority citation for 48 CFR part 234 is revised to read as follows:

Authority: 41 U.S.C. 1303 and 48 CFR chapter 1.

234-004 [Amended]

4. Section 234-004 paragraphs (2)(ii)(A)(1) and (2) are amended by removing “line times” and adding “line items” in both places.

PART 252—SOLICITATION PROVISIONS AND CONTRACT CLAUSES

252.232-7013 [Amended]

5. Section 252.232-7013 is amended by—

a. Removing the clause date “(MAR 2014)” and adding “(APR 2014)” in its place;

b. In paragraph (a) by removing “Contract Line Items (CLINs) ___, ___, and ___.” and adding “Contract Line Item Number(s) (CLIN(s)) [Contracting Officer insert applicable CLIN(s)].” in its place; and

c. In paragraph (b)(i) by removing “CLINs ___, ___, and ___.” and adding “CLIN(s) [Contracting Officer insert applicable CLIN(s)].” in its place.

[FR Doc. 2014-09436 Filed 4-25-14; 8:45 am]

BILLING CODE 5001-06-P